DEPARTMENT OF ENERGY

Fusion Energy Sciences Advisory Committee

AGENCY: Office of Science, Department of Energy.

ACTION: Notice of Renewal.

SUMMARY: Pursuant to Section 14(a)(2)(A) of the Federal Advisory Committee Act (Pub. L. 92-463), and in accordance with Title 41 of the Code of Federal Regulations, Section 102-3.65(a), and following consultation with the Committee Management Secretariat, General Services Administration, notice is hereby given that the Fusion Energy Sciences Advisory Committee will be renewed for a two-year period beginning on August 5, 2011.

The Committee provides advice and recommendations to the Department of Energy on long-range plans, priorities, and strategies for advancing plasma science, fusion science, and fusion technology related to the Fusion Energy Sciences program.

Additionally, the renewal of the Fusion Energy Sciences Advisory Committee has been determined to be essential to conduct Department of Energy business, and to be in the public interest in connection with the performance of duties imposed upon the Department of Energy by law and agreement. The Committee will continue to operate in accordance with the provisions of the Federal Advisory Committee Act, and the rules and regulations in implementation of that Act.

FOR FURTHER INFORMATION CONTACT: Mr. Albert Opdenaker, Designated Federal Officer, at (301) 903-4927.

Issued at Washington, DC on August 5, 2011.
Carol A. Matthews,
Committee Management Officer.

[FR Doc. 2011-20402 Filed 8-10-11; 8:45 am]

BILLING CODE 6450-01-P